DEPARTMENT OF ENERGY

Federal Energy Regulatory Commission

[Project No. 14671-000]

Symphony Hydro, LLC; Notice of Preliminary Permit Application Accepted for Filing and Soliciting Comments, Motions To Intervene, and Competing Applications

On March 23, 2015, Symphony Hydro, LLC filed an application for a preliminary permit under section 4(f) of the Federal Power Act proposing to study the feasibility of the proposed Symphony Hydro Project No. 14671-000, to be located at the existing Upper St. Anthony Lock and Dam on the Mississippi River, near the city of Minneapolis, in Hennepin County, Minnesota. The Upper St. Anthony Lock and Dam is owned and operated by U.S. Army Corps of Engineers. The sole purpose of a preliminary permit, if issued, is to grant the permit holder priority to file a license application during the permit term. A preliminary permit does not authorize the permit holder to perform any land-disturbing activities or otherwise enter upon lands or waters owned by others without the owners' express permission.

The proposed project would be located completely within lands owned by the United States and consist of: (1) The existing 400-foot-long by 56-foot-wide by 77-foot-high lock (2) two new 56-foot-wide by 70-foot high vertical lift steel gates; (3) two new submersible 1700-kilowatt axial flow Kaplan turbine-generator units having a combined capacity of 3.4 megawatts; (4) two new 6-foot-long by 6-foot-wide by 4-foot-high pad mounted metal boxes containing plant controls, communications and inverter equipment, and a step-up distribution transformer; (5) a new 400 to 500-foot-long, 13.8 kilovolt, underground transmission line that would connect to Xcel Energy's distribution system; and (6) appurtenant facilities. The project would have an estimated annual generation of 18,500 megawatt-hours.

Applicant Contact: Robert H. Schulte, 2236 Coley Forest Place, Raleigh, NC 27607, (952) 949-2676.

FERC Contact: Tyrone A. Williams, (202) 502-6331.

Deadline for filing comments, motions to intervene, competing applications (without notices of intent), or notices of intent to file competing applications: 60 days from the issuance of this notice. Competing applications and notices of intent must meet the requirements of 18 CFR 4.36. The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14671-000.

More information about this project, including a copy of the application, can be viewed or printed on the “eLibrary” link of Commission's Web site at http://www.ferc.gov/docs-filing/elibrary.asp. Enter the docket number (P-14671) in the docket number field to access the document. For assistance, contact FERC Online Support.

Dated: June 2, 2015.
Kimberly D. Bose,
Secretary.

[FR Doc. 2015-13902 Filed 6-5-15; 8:45 am]

BILLING CODE 6717-01-P